ENVIRONMENTAL PROTECTION AGENCY

[EPA-HQ-OARM-2016-0762; FRL-10023-15-OMS]

Information Collection Request Submitted to OMB for Review and Approval; Comment Request; General Administrative Requirements for Assistance Programs (Renewal)

AGENCY: Environmental Protection Agency (EPA).

ACTION: Notice.

SUMMARY: The Environmental Protection Agency (EPA) has submitted an information collection request (ICR), General Administrative Requirements for Assistance Programs (EPA ICR Number 0938.22, OMB Control Number 2030-0020) to the Office of Management and Budget (OMB) for review and approval in accordance with the Paperwork Reduction Act. This is a proposed extension of the ICR, which is currently approved through April 30, 2021. In addition, this ICR includes EPA's Disadvantaged Business Enterprise (DBE) Program as a result of the relocation of the DBE Program from the Office of Small and Disadvantaged Business Utilization to the Office of Grants and Debarment. The information collection activities for the DBE Program were previously covered under OMB Control Number 2090-0030. Public comments were previously requested via the Federal Register on November 6, 2020 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 1, 2021.

ADDRESSES: Submit your comments to EPA, referencing Docket ID No. EPA-HQ-OARM-2016-0762, online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Elizabeth January, Office of Grants and Debarment, National Policy, Training and Compliance Division, Mail Code: 3903R, Environmental Protection Agency, 1200 Pennsylvania Ave. NW, Washington, DC 20460; telephone number: (617) 918-8655; fax number: (202) 565-2470; email address: January.Elizabeth@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information is collected from applicants and recipients of EPA assistance to monitor adherence to the programmatic and administrative requirements of the Agency's financial assistance program, which includes the Agency's DBE program. The information collected is used to make awards, pay recipients, and collect information on how Federal funds are being spent. EPA needs this information to meet its Federal stewardship responsibilities. This ICR renewal requests authorization for the collection of information under EPA's General Regulation for Assistance Programs, which establishes minimum management requirements for all recipients of EPA grants or cooperative agreements (assistance agreements). This ICR combines all of these requirements under OMB Control Number 2030-0020. The information required by these regulations will be used by EPA award officials to make assistance awards and assistance payments and to verify that the recipient is using Federal funds appropriately.

Form Numbers:

EPA Form 190-F-04-001, “EPA Payment Request”

EPA Form 190-F-05-001, “Fellowship Stipend Payment Enrollment Form”

EPA Form 4700-4, “Preaward Compliance Review Report for All Applicants and Recipients Requesting Federal Financial Assistance”

EPA Form 5700-52A, “MBE/WBE Utilization Under Federal Grants and Cooperative Agreements”

EPA Form 5700-53, “Lobbying and Litigation Certification for Grants and Cooperative Agreements”

EPA Form 5700-54, “Key Contacts Form,” and EPA Form 5700-54-2, “Key Contacts Form for Multiple Principal Investigators”

EPA Form 5770-2, “Fellowship Application”

EPA Form 5770-3, “Fellowship Facilities and Commitment Statement”

EPA Form 5770-5, “Agency Fellowship Certification”

EPA Form 5770-7, “EPA Fellowship Activation Notice”

EPA Form 5770-8, “Fellowship Agreement”

EPA Form 5770-9, “Completion of Studies Notice”

EPA Form 6600-01, “EPA Administrative and Financial Onsite Review Questionnaire”

EPA Form 6600-06, “Certification Regarding Lobbying”

EPA Form 6600-08A, “Certificate of Indirect Costs for State & Local Governments”

EPA Form 6600-08B, “Lobbying Indirect Cost Certificate for Non-Profit Organizations” and “Certificate of Indirect Costs for Indirect (F&A) Cost Rate for Non-Profit Organizations”

EPA Form 6600-09, “EPA Administrative Capability Questionnaire”

NCER Form 5, “EPA Office of Research and Development Current and Pending Support”

Respondents/affected entities: The primary recipients of EPA assistance agreements are State and local governments, Indian Tribes, educational institutions, and not-for-profit institutions.

Respondent's obligation to respond: Required to obtain an assistance agreement (40 CFR part 30, 40 CFR part 31, and 40 CFR part 33 for awards made prior to December 26, 2014, and 2 CFR 200, 2 CFR 1500, and 40 CFR part 33 for awards made after December 26, 2014).

Estimated number of respondents: 3,048 (total).

Frequency of response: On occasion, quarterly, and annually.

Total estimated burden: 94,606 hours (per year). Burden is defined at 5 CFR 1320.03(b).

Total estimated cost: $6,054,791 (per year), includes $0 annualized capital or operation & maintenance costs.

Changes in the Estimates: There is an increase of 4,482 hours in the total estimated respondent burden compared with the ICR currently approved by OMB. The increase is partially due to the incorporation of burden into this ICR associated with the relocation of the DBE Program from OSDBU to OGD. EPA also made adjustments to the estimated number of respondents for each of the requirements included in the ICR and to the burden hour estimates for three of the requirements.

Courtney Kerwin,
Director, Regulatory Support Division.

[FR Doc. 2021-09016 Filed 4-29-21; 8:45 am]

BILLING CODE 6560-50-P